DEPARTMENT OF DEFENSE

Department of the Navy

[Docket ID USN-2022-HQ-0026]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by December 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Burial at Sea Request/Authorization; OPNAV Forms 5360/1 and 5360/2; OMB Control Number 0703-BLAS.

Type of Request: Existing collection currently in use without an OMB Control Number.

Number of Respondents: 320.

Responses per Respondent: 1.

Annual Responses: 320.

Average Burden per Response: 33.75 minutes.

Annual Burden Hours: 180.

Needs and Uses: Burial at Sea is a time-honored tradition used as a mechanism to honor the service of a veteran. The OPNAV Form 5360/1, “Burial at Sea Request/Authorization” allows a family member to request a burial at sea for a veteran, and lists the documentation required to enable the Navy to honor the request. This information is required to ensure the person making the request is the legal person authorized to direct the disposition of the deceased.

The OPNAV Form 5360/2, “Burial at Sea Port Checklist,” is used only when the requested remains are fully casketed. Certain preparation is required for these remains to ensure adequate safeguarding during transportation, storage aboard the ship until the event, and to ensure the casket sinks during the ceremony. The funeral home responsible for the storage, preparation and delivery to the port uses the checklist to prepare and inspect the casketed remains prior to transport.

Affected Public: Individuals or households; Businesses or other for-profit.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: November 22, 2022.
Aaron T. Siegel,
Alternate OSD Federal Register Liaison Officer, Department of Defense.

[FR Doc. 2022-25835 Filed 11-25-22; 8:45 am]

BILLING CODE 5001-06-P